DEPARTMENT OF TRANSPORTATION

Federal Aviation Administration

14 CFR Part 39

[Docket No. FAA-2011-0152; Directorate Identifier 2010-NM-079-AD]

RIN 2120-AA64

Airworthiness Directives; Dassault-Aviation Model FALCON 7X Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

On some Falcon 7X aeroplanes, it has been determined potential low clearance between electrical wiring or hydraulic pipe and nearby structure. Although no in service incident has been reported, there is no certainty that the minimum clearances would be maintained over time. In the worst case, interference or contact with structure might occur and lead to electrical short circuits or fluid leakage, potentially resulting in loss of several functions essential for safe flight.

* * * * *

The proposed AD would require actions that are intended to address the unsafe condition described in the MCAI.

DATES: We must receive comments on this proposed AD by April 22, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-40, 1200 New Jersey Avenue SE., Washington, DC, between 9 a.m. and 5 p.m., Monday through Friday, except Federal holidays.

For service information identified in this proposed AD, contact Dassault Falcon Jet, P.O. Box 2000, South Hackensack, New Jersey 07606; telephone 201-440-6700; Internet http://www.dassaultfalcon.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2011-0152; Directorate Identifier 2010-NM-079-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2010-0029R1, dated November 25, 2010 (referred to after this as “the MCAI”), to correct an unsafe condition for the specified products. The MCAI states:

On some Falcon 7X aeroplanes, it has been determined potential low clearance between electrical wiring or hydraulic pipe and nearby structure.

Although no in service incident has been reported, there is no certainty that the minimum clearances would be maintained over time. In the worst case, interference or contact with structure might occur and lead to electrical short circuits or fluid leakage, potentially resulting in loss of several functions essential for safe flight.

Dassault Aviation has developed two Service Bulletins (SB) that provide corrective actions to ensure the minimum required clearance, as well as adequate protection between hydraulic pipe (SB n° 0 92) and electrical wiring (SB n° 006) and the aeroplane structure.

This AD requires the implementation of both SBs on the affected aeroplanes.

Since issuance of EASA AD 2010-0029, Dassault Aviation has developed modifications M1036 and M1037. M1036 is equivalent to M1007 while M1037 is equivalent to M1020. These modifications are embodied during production on new aeroplanes.

This [EASA] AD has been revised to exclude from the AD applicability the aeroplanes on which those modifications are embodied.

Required actions include general visual inspections for damage of wiring bundles and feeders. Damage includes, but is not limited to: signs of overheat, discoloration, or damaged and cut strands on the cables and insulating sleeves. Corrective actions for damage of wiring bundles and feeders include repairing damage. Other required actions include modifying the applicable wiring and layout, a general visual inspection for absence of marks of the rear tank wall at the contact area, installing a protective plate on the rear tank wall, and installing a hydraulic pipe if necessary. If contact marks are found, required actions include an eddy current inspection or a penetrant inspection for cracks, and repair if necessary. You may obtain further information by examining the MCAI in the AD docket.

Relevant Service Information

Dassault has issued Mandatory Service Bulletin 7X-006, Revision 1, dated March 3, 2010; and Mandatory Service Bulletin 7X-092, Revision 1, dated January 4, 2010. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 21 products of U.S. registry. We also estimate that it would take about 65 work-hours per product to comply with the basic requirements of this proposed AD. The average labor rate is $85 per work-hour. Required parts would cost about $0 per product. Where the service information lists required parts costs that are covered under warranty, we have assumed that there will be no charge for these costs. As we do not control warranty coverage for affected parties, some parties may incur costs higher than estimated here. Based on these figures, we estimate the cost of the proposed AD on U.S. operators to be $116,025, or $5,525 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Dassault-Aviation: Docket No. FAA-2011-0152; Directorate Identifier 2010-NM-079-AD.

Comments Due Date

(a) We must receive comments by April 22, 2011.

Affected ADs

(b) None.

Applicability

(c) This AD applies to Dassault-Aviation Model FALCON 7X airplanes, certificated in any category; having serial numbers 2 through 22 inclusive, 24 through 26 inclusive, 29, 30, 32 and subsequent; except those on which modifications M964, M937, M976, M1007 or M1036, M1020 or M1037, and M1022 have all been implemented.

Subject

(d) Air Transport Association (ATA) of America Code 20: Air Frame Wiring; and ATA Code 29: Hydraulic Power.

Reason

(e) The mandatory continuing airworthiness information (MCAI) states:

On some Falcon 7X aeroplanes, it has been determined potential low clearance between electrical wiring or hydraulic pipe and nearby structure.

Although no in service incident has been reported, there is no certainty that the minimum clearances would be maintained over time. In the worst case, interference or contact with structure might occur and lead to electrical short circuits or fluid leakage, potentially resulting in loss of several functions essential for safe flight.

* * * * *

Compliance

(f) You are responsible for having the actions required by this AD performed within the compliance times specified, unless the actions have already been done.

Inspections and Modification of Wiring and Rear Fuel Tank Panel

(g) Within 10 months or 650 flight hours after the effective date of this AD, whichever occurs first, do the actions specified in paragraphs (g)(1), (g)(2), and (g)(3) of this AD.

(1) Do a general visual inspection for damage of wiring bundles and feeders, in accordance with the Accomplishment Instructions of Dassault Mandatory Service Bulletin 7X-006, Revision 1, dated March 3, 2010. If any damage is found, before further flight, repair, in accordance with Dassault Mandatory Service Bulletin 7X-006, Revision 1, dated March 3, 2010.

(2) Modify the applicable wiring and layout, in accordance with the Accomplishment Instructions of Dassault Mandatory Service Bulletin 7X-006, Revision 1, dated March 3, 2010.

(3) Do a general visual inspection for absence of marks on the rear tank wall at the contact area, in accordance with the Accomplishment Instructions of Dassault Mandatory Service Bulletin 7X-092, Revision 1, dated January 4, 2010.

(i) If no contact marks are found during the inspection required by paragraph (g)(3) of this AD, before further flight, modify the protective plate, and install a hydraulic pipe as applicable, in accordance with the Accomplishment Instructions of Dassault Mandatory Service Bulletin 7X-092, Revision 1, dated January 4, 2010.

(ii) If any contact marks are found during the inspection required by paragraph (g)(3) of this AD, before further flight, do either an eddy current inspection for cracks or a penetrant inspection for cracks, in accordance with the Accomplishment Instructions of Dassault Mandatory Service Bulletin 7X-092, Revision 1, dated January 4, 2010.

(A) If no crack is detected during any inspection required by paragraph (g)(3)(ii) of this AD, before further flight, do paragraph (g)(3)(i) of this AD.

(B) If any crack is detected during any inspection required in paragraph (g)(3)(ii) of this AD, before further flight, repair the crack using a method approved by either the Manager, International Branch, ANM-116, Transport Airplane Directorate, FAA; or the European Aviation Safety Agency (EASA) (or its delegated agent); and modify the protective plate, and install a hydraulic pipe as applicable, in accordance with the Accomplishment Instructions of Dassault Mandatory Service Bulletin 7X-092, Revision 1, dated January 4, 2010.

Credit for Actions Accomplished in Accordance With Previous Service Information

(h) Doing a general visual inspection for damage, repairing wiring bundles and feeders, and modifying the applicable wiring and layout, in accordance with Dassault Mandatory Service Bulletin 7X-006, dated December 18, 2009; and doing a general visual inspection for absence of marks on the rear tank wall at the contact area, modifying the protective plate, installing a hydraulic pipe as applicable, and doing either an eddy current inspection for cracks or a penetrant inspection for cracks, in accordance with Dassault Mandatory Service Bulletin 7X-092, dated July 17, 2009; before the effective date of this AD is acceptable for compliance with the corresponding actions required by paragraphs (g)(1), (g)(2), and (g)(3) of this AD.

FAA AD Differences

Note 1: This AD differs from the MCAI and/or service information as follows: No differences.

Other FAA AD Provisions

(i) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(j) Refer to MCAI EASA Airworthiness Directive 2010-0029R1, dated November 25, 2010; Dassault Mandatory Service Bulletin 7X-006, Revision 1, dated March 3, 2010; and Dassault Mandatory Service Bulletin 7X-092, Revision 1, dated January 4, 2010; for related information.

Issued in Renton, Washington, on February 22, 2011.
Kalene C. Yanamura,
Acting Manager, Transport Airplane Directorate, Aircraft Certification Service.

[FR Doc. 2011-5165 Filed 3-7-11; 8:45 am]

BILLING CODE 4910-13-P